FEDERAL COMMUNICATIONS COMMISSION

47 CFR Part 73

[DA 00-2116; MM Docket No. 00-169; RM-9953]

Radio Broadcasting Services; Oswego and Granby, NY

AGENCY: Federal Communications Commission.

ACTION: Proposed rule.

SUMMARY: This document requests comments on a petition for rule making filed on behalf of Galaxy Communications, L.P., licensee of Station WTKV(FM), Channel 288A, Oswego, New York, requesting the reallotment of Channel 288A from Oswego to Granby, New York, and modification of its authorization accordingly, pursuant to the provisions of Section 1.420(i) of the Commission's Rules. Coordinates used for requested Channel 288A at Granby, New York are 43-17-00 and 76-25-00. Canadian concurrence in the allotment must be obtained because Granby is located within 320 kilometers (199 miles) of the U.S.-Canadian border.

Petitioner's reallotment proposal complies with the provisions of Section 1.420(i) of the Commission's Rules, and therefore, the Commission will not accept competing expressions of interest in the use of Channel 288A at Granby, New York, or require the petitioner to demonstrate the availability of an additional equivalent class channel.

DATES: Comments must be filed on or before November 6, 2000, and reply comments on or before November 21, 2000.

ADDRESSES: Secretary, Federal Communications Commission, 445 12th Street, S.W., Room TW-A325, Washington, DC 20554. In addition to filing comments with the FCC, interested parties should serve the petitioner's counsel, as follows: Sally A. Buckman, H. Anthony Lehv and Janet Y. Shih; Leventhal, Senter & Lerman P.L.L.C.; 2000 K Street, N.W., Suite 600; Washington, D.C. 20006-1809.

FOR FURTHER INFORMATION CONTACT: R. Barthen Gorman, Mass Media Bureau, (202) 418-2180.

SUPPLEMENTARY INFORMATION: This is a synopsis of the Commission's Notice of Proposed rule Making, MM Docket No. 00-169 adopted September 6, 2000, and released September 15, 2000. The full text of this Commission decision is available for inspection and copying during normal business hours in the FCC's Reference Information Center at Portals II, CY-A257, 445 12th Street, SW, Washington, DC. The complete text of this decision may also be purchased from the Commission's copy contractors, International Transcription Service, Inc., (202) 857-3800, located at 1231 20th Street, NW., Washington, DC 20036.

The provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, See 47 CFR 1.415 and 1.420.

Federal Communications Commission.
John A. Karousos,
Chief, Allocations Branch, Policy and Rules Division, Mass Media Bureau.

[FR Doc. 00-24648 Filed 9-25-00; 8:45 am]

BILLING CODE 6712-01-P